DEPARTMENT OF JUSTICE

National Institute of Corrections

Solicitation for a Cooperative Agreement—“Executive Training for Women—Team Development”

AGENCY: National Institute of Corrections, Department of Justice.

ACTION: Solicitation for a Cooperative Agreement.

SUMMARY: The Department of Justice (DOJ), National Institute of Corrections (NIC), announces the availability of funds in FY 2003 for a cooperative agreement to fund the project, “Executive Training for Women—Team Building”. NIC invites applications for a one year cooperative agreement to design and deliver a three-day team development training program. Participants will be selected graduates of the two prior Executive Leadership Training for Women programs and the participant's chosen senior administrator. The participant has determined that this administrator is critical to her success in her current position, and is supportive of her efforts to succeed and grow in the organization.

This third program offering continues the leadership development of the woman executive by inviting other key personnel into the process to work together as a highly productive and respectful team. This particular team approach should incorporate researched and documented leadership styles of both men and women. The award recipient must become familiar with Phase 1 and Phase 2 of the NIC Executive Leadership Training for Women Program in order to understand the program history and progression to this advanced level of training, designed for selected graduates of the Phase 1 and 2 program. The cooperative agreement includes the responsibility for the program and curriculum design, training of faculty, and the delivery and evaluation of the pilot program in FY 2004. A total of $100,000 is reserved for the project during fiscal year 2003.

This cooperative agreement is a form of assistance relationship where the National Institute of Corrections is substantially involved during the performance of the award. The recipient of the award will be selected through the competitive solicitation process.

DATES: Applications must be received by 4:00 p.m. Eastern Standard Time on April 15, 2003.

ADDRESSES: Mailed applications must be sent to: Director, National Institute of Corrections, 320 First Street, NW., Room 5007, Washington, DC 20534. Applicants are encouraged to use Federal Express, UPS, or similar service to ensure delivery by the due date as mail at NIC is still being delayed due to recent events.

Hand delivered applications should be brought to 500 First Street, NW., Washington, DC 20534. At the front desk, call (202) 307-3106 extension 0 for pickup. Faxed or e-mailed applications will not be accepted.

FOR FURTHER INFORMATION CONTACT: A copy of this announcement and the required application forms can be downloaded from the NIC Web page at http://www.ncic.org (click on “Cooperative Agreements”). Hard copies of the application can be obtained by calling Rita Rippetoe, (800) 995-6423, extension 44222 or by e-mail rrippetoe@bop.gov.

All technical and or programmatic questions concerning this announcement should be directed to Evelyn Bush at the above address or by calling (800) 995-6423, extension 40376 or (202) 514-0376 or by e-mail via elbush@bop.gov.

SUPPLEMENTARY INFORMATION:

Background

The National Institute of Corrections, Prisons Division, offered the first Executive Training for Women program in 1994. The program was designed to address both the personal and professional aspects of correctional leadership and has continued to build upon the success of that beginning effort. Through a three part series focusing on executive, strategic and organizational leadership, NIC has sought to “close the gap” for women executives in their knowledge, self and observer perception, and recognition of their value to the organization. the ultimate goal of the program is to assist the leader with the final integration of her professional awareness and its value to the agency “team” in problem-solving and policy planning.

Developed in 1993, the first program was conducted in 1994. The program concept dates back to the late 1980's and early 1990's, as the National Institute of Corrections recognized the continued under-representation of women executives in corrections throughout the country. While women have made significant achievements in correctional employment over the last few decades, promotion to the Executive level has been slow. At no time in the history of state departments of corrections in the United States have women held even 20% of all of the Department Director positions. While the entry door into the corrections field swings open wider, it is less so for the promotional door toward advancement. Since entry can no longer be legally prohibited. There are more and more women employed in the field, expecting to be regarded with professional equality and upward mobility opportunities.

NIC's response to the dilemma of women being under-represented in executive level positions in the field of corrections was to establish an Executive Leadership Training for Women Program. With the addition of this third phase, the program is designed to enhance the ability of women to achieve and to function effectively in executive-level positions in state departments of corrections. Phase 1 and 2 have recently (2002) been updated to include the latest research on leadership theories and women's leadership.

Phase 1: Executive Leadership

A five-day program focused on leadership development. A number of assessments are combined with experiential activities and simulations to focus behavior (self-mastery), leadership competency, clarify current and future personal and professional goals, and accelerate promotional achievement.

Phase 2: Strategic Leadership

This three-day follow up program was developed in 1995 based on needs assessments from Phase 1 participants. As an expansion of the first program, key elements included strategic competency, the leader's role in the organization, and the moving the organization forward.

Phase 3: Team Building

The outcome of this cooperative agreement will be a three-day (24 hour) pilot program to build organizational competency by focusing on the group dynamics of the organization and the relationships necessary to succeed. Special attention should be given to the use of innovative problem-solving, and the role of “executive teaming” with recognition of the unique strengths and weaknesses of each team member.

Program Outcomes

Expand agency leadership capacity by addressing partnerships and relationship skills necessary to create a climate for understanding, growth and support of its key personnel;

Incorporate strategies for the organization's success (mission) by the promotion of effective leadership communication for problem solving discussions and policy planning;

Overcoming barriers to team performance by recognition of individual attributes and talents;

Create an atmosphere that encourages “coaching” as an agency benefit.

Purpose: The National Institute of Corrections is seeking applications for a cooperative agreement that will design and deliver a 3-day interactive pilot program, focused on agency team development. The program design must provide the opportunity for the executives to comfortably and effectively work to approach problems and policy planning. Recognizing and valuing the woman's leadership style, the emphasis of this third training program is to successfully integrate the individual styles into creative teams. This is accomplished by bringing the woman leader to the training program together with the next upper-level supervisor that is most supportive of her career efforts and her organizational value. The pilot program will be modified, if necessary, based on the participant and faculty evaluation.

Scope of Work

1. Design and implement a program based on current leadership and gender research which identifies the competencies necessary for a group of people to work as a highly productive and cohesive team. Expected components include, but are not limited to: Communicating Effectively in Teams, Problem Solving & Resolving Team Conflicts, Interrelationship Dynamics and Consensus Building.

2. Awardee must become acquainted with the current Executive Leadership Training for Women Program (Phase 1 and Phase 2) via written materials, participant manual and discussion with the current contractor. Additionally, attendance by one team member is required at the September 2003 Executive program in Maryland.

3. Identify in the proposal specific strategies for assuring a collaborative effort between their project team and NIC. This will include the curriculum review and pre-approval, program planning session, manual materials, and the selection and training of faculty for the program.

4. Conduct a program planning session, prepare program agenda, participant manual, and train staff/faculty for program delivery. All associated overhead slides, presentations, participant manual and any other audio-visual materials, with copyright permission, are to be provided to NIC. (Use CD-Rom.)

5. “Pilot” the Executive Training for Women-Team Development program in FY04 to an audience of 24 to 30 correctional practitioners;

6. Develop an evaluation tool, disseminate to participants and compile a basic analysis of the program, with results to the NIC Project Monitor within 30 days of the 2004 program completion.

7. Applicants are encouraged to include one or more graduates of the NIC Executive Leadership Training Program for Women in their project, i.e. planning meeting, project team. Specific names are not required, but positions must be identified in the budget with respective faculty roles identified.

Specific Requirements

1. Based on research of the existing leadership theories and realizing that those who had studied women executives discovered that the learning process needed to be complimented by a supportive environment. Applicants should consider “The Setting” as well as the style and methods of the program presentation. The location for the training will be recommended by the awardee with the final decision remaining with NIC.

The setting and learning environment incorporated in, and critical to, leadership training suggests the following consideration when attempting to locate a suitable site:

A. private outdoor space, preferably a grassed area to accommodate two groups of ten (10) to twelve (12) to execute team building activities;

B. secluded indoor and outdoor space conducive to individual and team problem solving, and personal reflection time;

C. classroom space that will accommodate 30 adults plus podium, LCD set-up, display table, and refreshment table;

D. dining area (separate from the public and classroom area) that will accommodate up to 30 people,

2. The applicant must demonstrate that the project team is comprised of at least one person with expertise in women's leadership education; one with expertise in executive team building and at least one with correctional administration/management experience at no less than the Warden/Superintendent level. This experience should be clearly identified in the accompanying resumes. Each individual must submit signed letters stating their willingness to work on this project.

3. The person designated as project director is required to be the person who will be on-site and coordinate the 3-day program presentation and who has full decision-making authority to work with the NIC project manager. This person must have experience at the level of a Warden and have enough time dedicated to the project to assure availability for detailed collaboration with the NIC project manager.

4. Participants for the pilot program will be sought from women leaders who have participated in the two previous offerings, advising them of a special opportunity to explore additional leadership training, accompanied by a supportive, senior administrator. Since the size of the program will be limited, the applicant for this cooperative agreement is being asked to propose creative and relevant criteria for the admission of the Executive Woman (+1) to the Phase 3 training.

5. The applicant should provide a clear design of what the 3 day program will look like including, but not limited to, a sessions by topic and time frames, activities/exercises by type and learning objective, and debriefing/processing time frames.

6. Interactive activities should be targeted to increased learning and understanding of team dynamics, strengths, etc. No activities should require a level of physical fitness greater than an average 50 year old person could perform. The majority of the activities should assure that the executive women and the senior administrator from the state interact during the course of the exercises.

7. All proposed interactive team activities should have a specific learning objective. The technique for processing the exercise or activity to achieve the learning objective should be clearly explained.

8. The applicant is to include a variety of interactive team activities, which, after concluding, will be throughly debriefed to achieve the learning objective. Although there is no prohibition from using outdoor, physical activities, such team activities are not to predominate.

9. The awardee must follow all of NIC's procedures and time frames for the provision of training and this must be stated in the proposal;

10. Dates for the training program will be determined by NIC in consultation with the awardee;

11. NIC will receive applications and select participants for the program.

12. Applicants should identify in the proposal specific strategies for assuring a collaborative effort between the project team and the NIC project manager. This will include the planning session, manual materials, and the selection of faculty for the program.

Application Requirements: Applications must be submitted using OMB Standard Form 424, Federal Assistance and attachments. Copies can be downloaded from the NIC Web page at http://www.nicic.org/services/coop/default.htm. The applications should be concisely written, typed double spaced and refer to the project by the “NIC Application Number” and Title in this announcement.

Submit an original and two copies. The original should have the applicant's signature in blue ink. A cover letter must identify the responsible audit agency for the applicant's financial accounts. The narrative portion of this cooperative agreement application should include, at a minimum:

1. A brief paragraph indicating the applicant's understanding of the purpose of this cooperative agreement;

2. One or more paragraphs detailing the applicants understanding of women leadership;

3. A brief paragraph that summarizes the project goals and objectives;

4. A clear description of the methodology that will be used to complete the project and achieve its goals;

5. A clearly developed Project Plan which demonstrates how the various goals and objectives of the project will be achieved through its various activities to produce the required results;

6. Chart of measurable project milestones and time lines for the completion of each milestone;

7. A description of the qualifications of the applicant organization and each project staff;

8. A description of the staffing plan for the project, including the role of each project staff, the time commitment for each, the relationship among the staff (who reports to whom), and a statement from individual staff that they will be available to work on this project;

9. A budget detailing all costs for the project, shows consideration for all contingencies for this project, and notes a commitment to work within the budget proposed (budget should be divided into object class categories as shown on application Standard Form 424A). A budget narrative must be included which explains how all costs were determined.

Authority: Public Law 93-415.

Funds Available: The award will be limited to a maximum of $100,000 (direct and indirect costs). Participant travel will be arranged for and paid by NIC. All other costs must be outlined in the proposal's budget. Funds may only be used for the activities that are linked to the desired outcome of the project. No funds are transferred to state or local governments. Based upon satisfactory performance of the awardee and the availability of funding in future years, a supplemental award could be made available for continued program delivery.

This project will be a collaborative venture with the NIC Prisons Division.

Antideficiency Act

Nothing contained herein shall be construed to obligate the parties to any expenditure or obligation of funds in excess or in advance of appropriation in accordance with the Antideficiency Act, 31 U.S.C. 1341

Eligibility of Applicants: An eligible applicant is any state or general unit of local government, private agency, educational institution, organization, individuals or team with expertise in the requested areas.

Review Considerations: Applications received under this announcement will be subjected to a 3 to 5 member Peer Review Process.

Number of Awards: One (1).

NIC Application Number: 03P22. This number should appear as a reference line in the cover letter and also in box 11 of Standard Form 424 and on the outside of the envelope in which the application is sent.

Catalog of Federal Domestic Assistance Number is: 16.601, Title: Training and Staff Development.

Executive Order 12362: This program is not subject to the provisions of Executive Order 12372.

Dated: February 12, 2003.
Morris L. Thigpen,
Director, National Institute of Correction.

[FR Doc. 03-4023 Filed 2-19-03; 8:45 am]

BILLING CODE 4410-36-M